DEPARTMENT OF DEFENSE

Department of the Army, Corps of Engineers

Notice of Availability (NOA) of Draft Environmental Impact Report/Environmental Impact Statement for the Proposed Guadalupe Creek Restoration Project, San Jose, CA

AGENCY: U.S. Army Corps of Engineers, Sacramento District, DOD.

ACTION: Notice of Availability.

SUMMARY: Pursuant to section 102(2)(c) of the National Environmental Policy Act (NEPA) of 1969 (as amended), the U.S. Army Corps of Engineers (Corps) and the Santa Clara Valley Water District (District) have prepared a Draft Environmental Impact Report /Environmental Impact Statement (EIR/EIS) for the proposed Guadalupe Creek Restoration Project in San Jose, California. This Draft EIR/EIS is being made available for a 45-day public comment period.

DATES: Comments on the Draft EIR/EIS should be submitted on or before January 8, 2001.

ADDRESSES: Comments on the Draft EIR/EIS should be submitted to the Santa Clara Valley Water District, 5750 Almaden Expressway, San Jose, CA 95118-3686 (Attention: Al Gurevich). Printed copies of the Draft EIR/EIS are available for public inspection and review at the locations listed below in Supplementary Information.

FOR FURTHER INFORMATION CONTACT: 1. Al Gurevich, Project Manager, Santa Clara Valley Water District, (408) 265-2607, extension 2018, or electronic mail: AlGurevi@scvwd.dst.ca.us.

2. Mr. Brad Hubbard, U.S. Army Corps of Engineers, Sacramento District, (916) 557-7054, or electronic mail: bhubbard@spk.usace.army.mil.

SUPPLEMENTARY INFORMATION:

1. Report Availability

The Draft EIR/EIS will be available for public inspection and review at the following locations:

Santa Clara Valley Water District, 5750 Almaden Expressway, San Jose, CA 95118

U.S. Army Corps of Engineers, Sacramento District, 1325 J Street, Sacramento, CA 95814-2922

Almaden Library, 6455 Camden Avenue, San Jose, CA 95120-2823

Alviso Library, 5050 North First Street, Alviso, CA 95002

Biblioteca Latino America, 921 South First Street, San Jose, CA 95110

Cambrian Library, 1780 Hillsdale Avenue, San Jose, CA 95124

Pearl Avenue Library, 4270 Pearl Avenue, San Jose, CA 95136

Rosegarden Library, 1580 Naglee Avenue, San Jose, CA 95126

Willow Glen Library, 1157 Minnesota Avenue, San Jose, CA 95125

2. Report Background and Scope

This EIR/EIS addresses the impacts of the proposed Guadalupe Creek Restoration Project, which involves riparian vegetation and fish habitat restoration along a 1.7-mile segment of Guadalupe Creek (City of San Jose, Santa Clara County, California) designated as critical habitat for steelhead by the National Marine Fisheries Service. The Guadalupe Creek Restoration Project comprises two phases. Phase 1 restoration plantings were completed in 1998. Phase 2, if implemented, will result in the installation of approximately 6 acres of riparian vegetation, approximately 13,000 linear feet (lf) of shaded riverine aquatic (SRA) cover vegetation, and various aquatic habitat features. This EIR/EIS specifically addresses the environmental impacts of Phase 2 of the Guadalupe Creek Restoration Project and will support decision making by the U.S. Army Corps of Engineers, Santa Clara Valley Water District, and other responsible agencies to implement Phase 2 and to ensure compliance with NEPA, the California Environmental Quality Act (CEQA), and other pertinent laws and regulations. This document analyzes potential direct, indirect, and cumulative environmental, social, and economic effects of a range of action alternatives for implementing Phase 2.

The primary objective of the Guadalupe Creek Restoration Project is to restore shaded riverine aquatic (SRA) cover vegetation and improve aquatic habitat for anadromous fish (steelhead and Chinook salmon) in lower Guadalupe Creek between Almaden Expressway and Masson Dam. Additional secondary objectives are detailed in the Draft EIR/EIS. Action alternatives were developed to meet the Guadalupe Creek Restoration Project's primary objective while avoiding or minimizing adverse environmental effects to the maximum extent practicable. Alternatives were further screened based on their expected success in achieving the Guadalupe Creek Restoration Project's secondary objectives. Alternatives considered in detail in the Draft EIR/EIS include: channel and floodplain modification (proposed action/preferred alternative); reduced channel and floodplain modification; minimal channel and floodplain modification; and the No-Action (No-Project) Alternative. The proposed action/preferred alternative, described in greater detail below, would fulfill all primary and secondary objectives of the Guadalupe Creek Restoration Project.

3. Project Site

The project site encompasses approximately 1.7 miles of lower Guadalupe Creek (including the active channel and adjacent floodplain areas) between Almaden Expressway and Masson Dam in the southwestern portion of the City of San Jose, Santa Clara County, California. The study area addressed in this Draft EIR/EIS includes the project site and surrounding portions of the City of San Jose. For some resource areas (e.g., biological resources, hydrology and water quality), the Draft EIR/EIS also discusses conditions in the larger Guadalupe Creek watershed and/or Guadalupe River system.

4. Proposed Action

The proposed action (channel and floodplain modification alternative) includes channel relocation, floodplain development, and bank stabilization to enhance instream habitat and support the establishment of SRA vegetation. Implementation of the proposed action/preferred alternative would involve shifting approximately 2,500 lf of existing stream channel, excavating and removing approximately 42,000 cubic yards of material, and importing 13,000 cubic yards of material to create planting sites. In addition, under the proposed action/preferred alternative, approximately 725 lf of bank protection features would be installed and approximately 6 acres of riparian vegetation and 13,000 lf of SRA cover vegetation would be established.

5. Commenting

Comments received in response to this Draft EIR/EIS, including names and addresses of those who comment, will be considered part of the public record on the proposed action. Comments submitted anonymously will also be accepted and considered. Pursuant to 7 Code of Federal Regulations (CFR) 1.27(d), any person may request that the lead agency withhold a submission from the public record if he or she can demonstrate that the Freedom of Information Act (FOIA) permits such confidentiality. Persons requesting such confidentiality should be aware that, under FOIA, confidentiality may be granted in only very limited circumstances, such as to protect trade secrets. The Corps will inform the requester of the agency's decision regarding the request for confidentiality, and if the request is denied, the Corps will return the submission with notification that the comments may be resubmitted either with or without the commentor's name and address.

Dated: November 14, 2000.
Robert A. O'Brien III,
Lieutenant Colonel, Corps of Engineers, Acting Commander.

[FR Doc. 00-29760 Filed 11-20-00; 8:45 am]

BILLING CODE 3710-EZ-P